DEPARTMENT OF ENERGY

Federal Energy Regulatory Commission

Combined Notice of Filings #1

Take notice that the Commission received the following exempt wholesale generator filings:

Docket Numbers: EG15-83-000.

Applicants: Goodwell Wind Project, LLC.

Description: Self-Certification of EG or FC of Goodwell Wind Project, LLC.

Filed Date: 5/6/15.

Accession Number: 20150506-5061.

Comments Due: 5 p.m. ET 5/27/15.

Docket Numbers: EG15-84-000.

Applicants: Breckinridge Wind Project, LLC.

Description: Notice of Self-Certification of Exempt Wholesale Generator Status of Breckinridge Wind Project, LLC.

Filed Date: 5/6/15.

Accession Number: 20150506-5156.

Comments Due: 5 p.m. ET 5/27/15.

Take notice that the Commission received the following electric rate filings:

Docket Numbers: ER13-1488-005.

Applicants: Quantum Pasco Power, LP.

Description: Compliance filing per 35: Quantum Pasco Power Revised Electric Tariff Filing to be effective 5/7/2015.

Filed Date: 5/6/15.

Accession Number: 20150506-5069.

Comments Due: 5 p.m. ET 5/27/15.

Docket Numbers: ER13-1489-007.

Applicants: Quantum Lake Power, LP.

Description: Compliance filing per 35: Quantum Lake Power Revised Electric Tariff Filing to be effective 5/7/2015.

Filed Date: 5/6/15.

Accession Number: 20150506-5064.

Comments Due: 5 p.m. ET 5/27/15.

Docket Numbers: ER15-1046-006.

Applicants: Kansas City Power & Light Company.

Description: Compliance filing per 35: KCP&L FSA Rate Schedule 140 Compliance Filing to be effective 4/8/2015.

Filed Date: 5/5/15.

Accession Number: 20150505-5170.

Comments Due: 5 p.m. ET 5/26/15.

Docket Numbers: ER15-1048-005.

Applicants: KCP&L Greater Missouri Operations Company.

Description: Compliance filing per 35: KCP&L-GMO FSA Rate Schedule 136 Compliance Filing to be effective 4/8/2015.

Filed Date: 5/5/15.

Accession Number: 20150505-5171.

Comments Due: 5 p.m. ET 5/26/15.

Docket Numbers: ER15-1442-001.

Applicants: Municipal Energy of PA, LLC.

Description: Tariff Amendment per 35.17(b): Update to Market-Based Rate Tariff Application to be effective 5/1/2015 under ER15-1442 Filing Type: 120.

Filed Date: 5/6/15.

Accession Number: 20150506-5091.

Comments Due: 5 p.m. ET 5/27/15.

Docket Numbers: ER15-1471-000.

Applicants: Blue Sky West, LLC.

Description: Supplement to April 7, 2015 Blue Sky West, LLC tariff filing.

Filed Date: 4/30/15.

Accession Number: 20150430-5428.

Comments Due: 5 p.m. ET 5/11/15.

Docket Numbers: ER15-1557-001.

Applicants: Entrust Energy East, Inc.

Description: Compliance filing per 35: Update to Notice of Succession and Revised Market-Based Rate Tariff to be effective 4/22/2015.

Filed Date: 5/6/15.

Accession Number: 20150506-5088.

Comments Due: 5 p.m. ET 5/27/15.

Docket Numbers: ER15-1673-000.

Applicants: Southwestern Electric Power Company.

Description: § 205(d) rate filing per 35.13(a)(2)(iii): SWEPCO-Bentonville PSA Amendment to be effective 1/1/2015.

Filed Date: 5/5/15.

Accession Number: 20150505-5188.

Comments Due: 5 p.m. ET 5/26/15.

Docket Numbers: ER15-1674-000.

Applicants: PJM Interconnection, L.L.C., West Penn Power Company.

Description: § 205(d) rate filing per 35.13(a)(2)(iii): West Penn Power submits Service Agreement No. 4119 to be effective 7/5/2015.

Filed Date: 5/5/15.

Accession Number: 20150505-5207.

Comments Due: 5 p.m. ET 5/26/15.

Docket Numbers: ER15-1675-000.

Applicants: Puget Sound Energy, Inc.

Description: § 205(d) rate filing per 35.13(a)(2)(iii): Blaine NITSA, NOA and Interconnection Agreement to be effective 3/1/2015.

Filed Date: 5/6/15.

Accession Number: 20150506-5002.

Comments Due: 5 p.m. ET 5/27/15.

Docket Numbers: ER15-1676-000.

Applicants: Balko Wind Transmission, LLC.

Description: Initial rate filing per 35.12 Initial Filing for Balk Wind Transmission, LLC to be effective 5/6/2015.

Filed Date: 5/6/15.

Accession Number: 20150506-5045.

Comments Due: 5 p.m. ET 5/27/15.

Docket Numbers: ER15-1677-000.

Applicants: Midcontinent Independent System Operator, Inc.

Description: § 205(d) rate filing per 35.13(a)(2)(iii): 2015-05-06 Attachment P GFA Update Filing to be effective 7/6/2015.

Filed Date: 5/6/15.

Accession Number: 20150506-5125.

Comments Due: 5 p.m. ET 5/27/15.

Docket Numbers: ER15-1678-000.

Applicants: PJM Interconnection, L.L.C., Duke Energy Ohio, Inc.

Description: § 205(d) rate filing per 35.13(a)(2)(iii): Duke Energy Ohio submits revised Service Agreement No. 3141 to be effective 4/13/2015.

Filed Date: 5/6/15.

Accession Number: 20150506-5158.

Comments Due: 5 p.m. ET 5/27/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 6, 2015.
Nathaniel J. Davis, Sr.,
Deputy Secretary.

[FR Doc. 2015-11543 Filed 5-12-15; 8:45 am]

BILLING CODE 6717-01-P